NATIONAL SCIENCE FOUNDATION

Request for Information on Key Technology Focus Areas for the National Science Foundation's Directorate for Technology, Innovation and Partnerships

AGENCY: National Science Foundation.

ACTION: Request for information.

SUMMARY: The U.S. National Science Foundation seeks input from academia, non-profits, philanthropy, state and local government, venture capital, the private sector and any other interested parties to inform the agency's assessment and potential update of the Key Technology Focus Areas as described in Public Law 117-167 (Research and Development, Competition, and Innovation Act.)

DATES: Interested persons or organizations are invited to submit comments on or before 11:59 p.m. (EST) on July 21, 2025.

ADDRESSES: Comments submitted in response to this notice may be sent by the following methods:

• Web: Responses can be submitted via https://airtable.com/appKnHdp08MhNZPyb/pagb14TC1ya9x4V2t/form.

• Email: KTA_RFI@nsf.gov. Email submissions should be machine-readable and not be copy-protected. Submissions should include “RFI Response: Key Technology Areas for TIP” in the subject line of the message.

Respondents may answer one or more questions included in this RFI, noting the corresponding number of the question(s) to which the response pertains. Responders are asked to limit each question response to no more than four sentences. If submitting via email instead of webform, the entire submission must not exceed two pages (exclusive of cover page) in 11-point or larger font. Responses should include the name of the person(s) or organization(s) filing the comment, as well as the type of respondent (e.g., academic institution, non-profit, philanthropy, state and local government, venture capital, private sector). Respondent's role in the organization may also be provided (e.g., researcher, administrator, student, program manager, journalist).

No machine-generated responses, business proprietary information, copyrighted information, or personally identifiable information (aside from that requested above) should be submitted in response to this RFI. Comments submitted in response to this RFI may be posted online or otherwise released publicly.

FOR FURTHER INFORMATION CONTACT: For additional information, please direct questions to Tess deBlanc-Knowles at KTA_RFI@nsf.gov, 2415 Eisenhower Avenue, Alexandria, VA 22314, (703) 292-5111.

SUPPLEMENTARY INFORMATION: Public Law 117-167 (Research and Development, Competition, and Innovation Act) authorized the creation of a Directorate for Technology, Innovation and Partnerships (TIP) at NSF with the purpose of (i) supporting use-inspired and translational research and accelerating the development and use of federally funded research, (ii) strengthening United States competitiveness by accelerating the development of key technologies, and (iii) growing the domestic workforce in key technology focus areas and expanding the participation of United States students and researchers in areas of societal, national, and geostrategic importance, at all levels of education.

In authorizing this new directorate, Congress identified 10 initial key technology focus areas upon which TIP investments should focus in order to advance U.S. competitiveness, as listed below.

Key Technology Focus Areas

(1) Artificial intelligence, machine learning, autonomy, and related advances.

(2) High performance computing, semiconductors, and advanced computer hardware and software.

(3) Quantum information science and technology.

(4) Robotics, automation, and advanced manufacturing.

(5) Natural and anthropogenic disaster prevention or mitigation.

(6) Advanced communications technology and immersive technology.

(7) Biotechnology, medical technology, genomics, and synthetic biology.

(8) Data storage, data management, distributed ledger technologies, and cybersecurity, including biometrics.

(9) Advanced energy and industrial efficiency technologies, such as batteries and advanced nuclear technologies, including but not limited to for the purposes of electric generation

(10) Advanced materials science, including composites 2D materials, other next-generation materials, and related manufacturing technologies.

The legislation tasked the TIP directorate to annually review and, as appropriate, update the list of key technology focus areas.

Information Requested. Respondents may provide responses to one or as many questions below as they choose, keeping the response to each question (i.e. 1.a., 1.c.) to four sentences or fewer. Through this RFI, NSF seeks information to inform an assessment and potential update of the list of 10 key technology focus areas for the TIP directorate.

1. Considering how each of the key technology focus areas listed above contributes to America's global technological leadership and drive economic growth and national security:

a. Which, if any, technology areas currently included in the list should be revised or refined to better reflect the scope of a technology area critical to U.S. competitiveness? Please include the rationale and suggested revision.

b. Which, if any, technology areas currently included in the list are no longer critical for U.S. technological competitiveness and why?

c. What, if any, technology areas not currently included in the list are critical for U.S. technological competitiveness and should be added to the list? Why?

2. Among the 10 key technology focus areas listed above and any proposed additional areas pursuant to 1.c., what are the three most important based on each of the following considerations? Please list three technology areas for each category and include a short rationale.

a. Geopolitical technology competition.

b. Potential to power significant economic growth.

c. Ability to advance national security capabilities.

d. Likelihood to experience significant talent gaps or workforce availability risks.

e. The need for use-inspired and translational research to mature the technology.

(Authority: 42 U.S.C. 1861, et seq.)

Dated: June 17, 2025.
Suzanne H. Plimpton,
Reports Clearance Officer, National Science Foundation.

[FR Doc. 2025-11374 Filed 6-18-25; 8:45 am]

BILLING CODE 7555-01-P